FEDERAL AVIATION ADMINISTRATION

14 CFR Part 25

Airworthiness Standards: Transport Category Airplanes

CFR Correction

In Title 14 of the Code of Federal Regulations, Parts 1 to 59, revised as of January 1, 2011, on page 413, in § 25.509, in paragraph (a)(3)(ii), the expression “(6WT + 450,000)/7” is corrected to read “(6WT + 450,000)/70”.

[FR Doc. 2011-33532 Filed 12-28-11; 8:45 am]

BILLING CODE 1505-01-D